DEPARTMENT OF ENERGY

Federal Energy Regulatory Commission

[Docket No. CP03-321-000]

Tennessee Gas Pipeline Corporation; Notice of Request Under Blanket Authorization

June 26, 2003.

Take notice that on June 17, 2003, Tennessee Gas Pipeline Corporation (Tennessee), 9 East Greenway Plaza, Houston, Texas 77046, filed in Docket No. CP03-321-000 a request pursuant to sections 157.205 and 157.208 of the Federal Energy Regulatory Commission's regulations (18 CFR sections 157.205 and 157.208) under the Natural Gas Act (NGA) for authorization to uprate its West Calaboose and Calaboose-Portilla laterals located in San Patricio County, Texas, through an increase in maximum allowable operating pressure (MAOP), under Tennessee's blanket certificate issued in Docket No. CP82-413-000, pursuant to section 7 of the NGA, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Tennessee proposes to increase the MAOP of its West Calaboose lateral (Line 4A-100) from 704 to 750 psig and of its Calaboose-Portilla (Line 4A-200) lateral from 721 to 750 psig to facilitate receipts of natural gas. Tennessee states that Lines 4A-100 and 4A-200 are supply laterals connected to Tennessee's parallel mainlines designated as Line No. 100-1 and 100-2. Tennessee further states that the MAOP of its mainline is 750 psig, but whenever the pressure on the mainline exceeds 700 psig, producers on the laterals must be shut in to avoid pressure buildup that exceeds the 704 psig MAOP limits on the two laterals. Tennessee states that it proposes these uprates so that it can consistently and reliably receive natural gas from the affected producers located on these lateral lines. Tennessee states that the estimated cost of the project will be approximately $167,840.

Tennessee states that: (1) The proposed increases in MAOP for the two laterals do not require the construction of any new pipeline facilities and will involve minimal ground disturbance; (2) the uprate testing will be performed using nitrogen gas, and therefore, Tennessee expects no adverse environmental impact; (3) the testing will be performed in accordance with Department of Transportation standards contained in part 192 of Title 49; and (4) all work will be performed within Tennessee's existing rights-of-way. All affected landowners will be notified of the proposed procedure by first class mail in accordance with Section 157.203(d) of the Commission's Regulations (18 CFR 157.203).

Any questions concerning this request may be directed to Jacques Hodges, Attorney, Tennessee Gas Pipeline Company, 9 East Greenway Plaza, Houston, Texas 77046, at (832) 676-5509 or fax (832) 676-2251 or Veronica Hill, Certificates & Regulatory Compliance, Tennessee Gas Pipeline Company, 9 East Greenway Plaza, Houston, Texas 77046, at (832) 676-3295 or fax (832) 676-2231.

Any person or the Commission's staff may, within 45 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to section 7 of the NGA.

Comments, protests and interventions may be filed electronically via the Internet in lieu of paper. See 18 CFR 385.2001(a)(1)(iii) and the instructions on the Commission's Web site under the “e-Filing” link. The Commission strongly encourages electronic filings.

Magalie R. Salas,
Secretary.

[FR Doc. 03-16744 Filed 7-2-03; 8:45 am]

BILLING CODE 6717-01-P